OFFICE OF MANAGEMENT AND BUDGET

OMB Sequestration Update Report to the President and Congress for the Current Fiscal Year

AGENCY: Executive Office of the President, Office of Management and Budget.

ACTION: Notice of availability.

SUMMARY: OMB is issuing the OMB Sequestration Update Report to the President and Congress for the Current Fiscal Year to report on the status of the discretionary caps in 2021 and on the compliance of enacted discretionary appropriations legislation with those caps.

DATES: August 20, 2021.

ADDRESSES: The OMB Sequestration Reports to the President and Congress are available on-line on the OMB home page at: https://www.whitehouse.gov/omb/legislative/sequestration-reports-orders/.

FOR FURTHER INFORMATION CONTACT: Thomas Tobasko, 6202 New Executive Office Building, Washington, DC 20503, Email address: ttobasko@omb.eop.gov, telephone number: (202) 395-5745. Because of delays in the receipt of regular mail related to security screening, respondents are encouraged to use electronic communications.

SUPPLEMENTARY INFORMATION: Section 254 of the Balanced Budget and Emergency Deficit Control Act of 1985 requires the Office of Management and Budget (OMB) to issue a Sequestration Update Report by August 20th of each year. For fiscal year 2021, the report finds enacted appropriations to be at or below the caps after accounting for enacted supplemental appropriations.

Shalanda Young,
Acting Director.

[FR Doc. 2021-18349 Filed 8-25-21; 8:45 am]

BILLING CODE 3110-01-P